DEPARTMENT OF ENERGY

Federal Energy Regulatory Commission

[Docket No. RP00-427-000]

Sabine Pipe Line LLC; Notice of Compliance Filing

August 7, 2000.

Take notice that on August 1, 2000, Sabine Pipe Line LLC (Sabine) tendered for filing as part of its FERC Gas Tariff, Original Volume No. 1, the following tariff sheets to become effective September 1, 2000:

First Revised Sheet No. 250

Original Sheet No. 250A

First Revised Sheet No. 252

First Revised Sheet No. 255

First Revised Sheet No. 267

Original Sheet No. 267A

First Revised Sheet No. 272

Original Sheet No. 272A

First Revised Sheet No. 274

Sabine states that the purpose of this filing is to comply with the Commission's Orders Nos. 637 and 637-A issued February 9, 2000 and May 19, 2000, in Docket Nos. RM98-10-000, RM98-12-000, and RM98-10-001. Specifically, Sabine is revising its tariff in compliance with the Commission's orders revising capacity release regulations and the right of first refusal procedures.

Sabine states that copies of this filing are being mailed to its customers, state commissions and other interested parties. In accordance with the provisions of Section 154.2(d) of the Commission's Regulations, copies of this filing are available for public inspection, during regular business hours, in a convenient form and place at Sabine's offices at 1111 Bagby Street in Houston, Texas.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-20364 Filed 8-10-00; 8:45 am]

BILLING CODE 6717-01-M